DEPARTMENT OF DEFENSE

National Imagery and Mapping Agency

Privacy Act of 1974; System of Records

AGENCY: National Imagery and Mapping Agency, DoD.

ACTION: Notice to Delete and Amend Systems of Records.

SUMMARY: The National Imagery and Mapping Agency (NIMA) is deleting and amending systems of records notices in its existing inventory of record systems subject to the Privacy Act of 1974, (5 U.S.C. 552a), as amended.

DATES: This proposed action will be effective without further notice on April 18, 2002 unless comments are received which result in a contrary determination.

ADDRESSES: Comments should be sent to the National Imagery and Mapping Agency, Office of General Counsel, 4600 Sangamore Avenue, Bethesda, MD 20816-5003.

FOR FURTHER INFORMATION CONTACT: Ms. Christine May on (301) 227-4142.

SUPPLEMENTARY INFORMATION: The National Imagery and Mapping Agency systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: March 13, 2002.
L.M. Bynum,
Alternate OSD Federal Register Liaison Officer, Department of Defense.

DELETION

B0901-08

System name:

Civilian Employee Drug Abuse Testing Program Records (July 13, 1995, 60 FR 36124).

Reason:

NIMA now maintains these records under the Government-wide Privacy Act system of records, OPM/GOVT-10, Employee Medical File System Records.

B0228-04

System name:

Historical Photographic Files (February 22, 1993, 58 FR 10189).

Changes:

* * * * *

System location:

Delete entry and replace with ‘Public Affairs Office, National Imagery Mapping Agency, GC (D-39), 4600 Sangamore Road, Bethesda, MD 20816-5003.’

* * * * *

Authority for maintenance of the system:

Delete entry and replace with ‘5 U.S.C. 301, Departmental Regulations’.

* * * * *

Storage

Delete entry and replace with ‘Prints and negatives filed in cabinets, and on electronic storage devices’.

* * * * *

B0228-04

System name:

Historical Photographic Files.

System location:

Public Affairs Office, National Imagery Mapping Agency, GC (D-39), 4600 Sangamore Road, Bethesda, MD 20816-5003.

Categories of individuals covered by the system:

Any individual or VIP visitor photographed at NIMA functions or activities, i.e., award ceremonies, sporting events, retirement ceremonies, etc., that is of historical interest to NIMA.

Categories of records in the system:

Photographs and negatives taken at any NIMA function or activity, i.e., award ceremonies, sporting events, retirement ceremonies, etc., that is of historical interest to NIMA.

Authority for maintenance of the system:

5 U.S.C. 301, Departmental Regulations.

Purpose(s):

To furnish copies of photographs to organizations that requested photographs to be taken, to obtain the background information regarding events, ceremonies, awards, sports, retirements at NIMA for input to newspapers and magazine articles to recognize accomplishments and publications.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To News Media for Public Relations and Community Affairs Matters and to organizers of testimonials, banquets and parties for the purpose of obtaining background information regarding events, ceremonies, awards, sports, and retirements at NIMA.

Policies and practices for storing, retrieving, accessing, retaining, and disposing of records in the system:

Storage:

Prints and negatives filed in cabinets, and on electronic storage devices.

Retrievability:

Retrieved by name and/or event.

Safeguards:

Records are maintained in a secured area/locked file cabinets with access limited to authorized personnel whose duties require access.

Retention and disposal:

Records are Permanent. Records will be retired to Washington National Records Center on discontinuance of the installation.

System manager(s) and address:

NIMA Historian, National Imagery Mapping Agency, Mail Stop D-54, 4600 Sangamore Road, Bethesda, MD 20816-5003.

Notification procedure:

Individuals seeking to determine whether information about themselves is contained in this system should address written inquiries to the National Imagery and Mapping Agency, Office of General Counsel, 4600 Sangamore Road, Mail stop D-10, Bethesda, MD 20816-5003.

Record access procedures:

Individuals seeking access to information about themselves contained in this system should address written inquiries to the National Imagery and Mapping Agency, Office of General Counsel, 4600 Sangamore Road, Mail stop D-10, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Photographs taken at awards ceremonies; sporting events; retirement parties.

Exemptions claimed for the system:

None.

B0502-03

System name:

Master Billet/Access Record (April 20, 1995, 60 FR 19742). B0502-03

Changes:

* * * * *

System location:

Delete entry and replace with ‘National Imagery and Mapping Agency, ATTN: Security Specialist, Mission Support, MSRS P-12, 12310 Sunrise Valley Drive, Reston, VA 20191-3449;

National Imagery and Mapping Agency, ATTN: Security Specialist, Mission Support, ATTN: MSBS D-60, 4600 Sangamore Road, Bethesda, MD 20816-5003;

National Imagery and Mapping Agency, ATTN: Security Specialist, Mission Support, ATTN: MSNS N-55, Building 213, 1200 First Street, SE., Washington, DC 20505-0001;

National Imagery and Mapping Agency, ATTN: Security Specialist, Mission Support, ATTN: MSWS L-59, 3200 S. Second Street, St. Louis, MO 63118-3399.’

Categories of individuals covered by the system:

Delete entry and replace with ‘All National Imagery and Mapping Agency (NIMA) employees and contractor personnel who have been indoctrinated for access to Sensitive Compartmented Information (SCI). In addition, employees of other government agencies are included for the period during which their security clearance or SCI access status is permanently certified to NIMA.’

Categories of records in the system:

Delete entry and replace with ‘File may contain name, rank/grade, military component or civilian status, Social Security Number, SCI billet number and title, SCI accesses authorized and held, date background investigation completed, date indoctrinated, date and state of birth.’

B0502-03

System name:

Master Billet/Access Record.

System location:

National Imagery and Mapping Agency, ATTN: Security Specialist, Mission Support, MSRS P-12, 12310 Sunrise Valley Drive, Reston, VA 20191-3449;

National Imagery and Mapping Agency, ATTN: Security Specialist, Mission Support, ATTN: MSBS D-60, 4600 Sangamore Road, Bethesda, MD 20816-5003;

National Imagery and Mapping Agency, ATTN: Security Specialist, Mission Support, ATTN: MSNS N-55, Building 213, 1200 First Street, SE, Washington, DC 20505-0001; and

National Imagery and Mapping Agency, ATTN: Security Specialist, Mission Support, ATTN: MSWS L-59, 3200 S. Second Street, St. Louis, MO 63118-3399.

Categories of individuals covered by the system:

All National Imagery and Mapping Agency (NIMA) employees and contractor personnel who have been indoctrinated for access to Sensitive Compartmented Information (SCI). In addition, employees of other government agencies are included for the period during which their security clearance or SCI access status is permanently certified to NIMA.

Categories of records in the system:

File may contain name, rank/grade, military component or civilian status, Social Security Number, SCI billet number and title, SCI accesses authorized and held, date background investigation completed, date indoctrinated, date and state of birth.

Authority for maintenance of the system:

5 U.S.C. 301, Departmental Regulations; E.O. 12958, Classified National Security Information; NIMA Instruction 5205.1R1 Protection of Sensitive Compartmented Information, NIMA Instruction 5210.8 Physical Security, NIMA Instruction 5201.5R1 Serious Incident Reporting; and E.O. 9397 (SSN).

Purpose(s):

To identify and verify NIMA personnel authorized access to SCI in order to control access to secure areas for use of classified information, for periodic re-indoctrination (re-briefing) of employees for SCI access, for periodic security education and training, and for control and reissue of identification badges.

To certify personnel SCI access status to the Defense Intelligence Agency for updating the Security Management Information System.

To verify visit approval and/or access to classified material through Security Specialists/Assistants, NIMA Security Police and other contract security guards at NIMA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To other Federal agencies for the purpose of certifying and verifying an individual’s SCI access status.

The DoD ‘Blanket Routine Uses’ set forth at the beginning of NIMA's compilation of systems of records notices apply to this system.

Policies and practices for storing, retrieving, accessing, retaining, and disposing of records in the system.

Storage:

Paper records and on electronic storage media.

Retrievability:

Files are retrieved by name and at least one other personal identifier, such as a date of birth, place of birth, Social Security Number or military service number. Files may also be retrieved by billet number.

Safeguards:

Buildings or facilities employ security guards. Records are maintained in areas accessible only to authorized personnel that are properly screened, cleared and trained. Transmission of system data between NIMA components is by secure mail channels. Access to the database is password-protected.

Retention and disposal:

Destroy two years after transfer, reassignment or separation of the individual from NIMA.

System manager(s) and address:

Security Specialist, National Imagery and Mapping Agency, Mission Support, MSRS P-12, 12310 Sunrise Valley Drive, Reston, VA 20191-3449;

Security Specialist, National Imagery and Mapping Agency, Mission Support, ATTN: MSBS D-60, 4600 Sangamore Road, Bethesda, MD 20816-5003;

Security Specialist, National Imagery and Mapping Agency, Mission Support, ATTN: MSNS N-55, Building 213, 1200 First Street, SE., Washington, DC 20505-0001; and

Security Specialist, National Imagery and Mapping Agency, Mission Support, ATTN: MSWS L-59, 3200 S. Second Street, St. Louis, MO 63118-3399.

Notification procedure:

Individuals seeking to determine whether information about themselves is contained in this system should address written inquiries to the National Imagery and Mapping Agency, Office of General Counsel, 4600 Sangamore Road, Mail stop D-10, Bethesda, MD 20816-5003.

Record access procedures:

Individuals seeking access to information about themselves contained in this system should address written inquiries to the National Imagery and Mapping Agency, Office of General Counsel, 4600 Sangamore Road, Mail stop D-10, Bethesda, MD 20816-5003.

Written requests for information should contain the full name of the individual, Social Security Number, current address and telephone number.

Contesting record procedures:

NIMA's rules for accessing records, and for contesting contents and appealing initial agency determinations are published in NIMA Instruction 5500.7R1; 32 CFR part 320; or may be obtained from the system manager.

Record source categories:

Information is supplied by the individual concerned through completion of Standard From 86, “Questionnaire For National Security Positions”. The basis for billet entries are security clearance or access approval messages or correspondence from the Defense Intelligence Agency; bases for incumbent entries are indoctrination oaths executed by incumbents at time of indoctrination.

Exemptions claimed for the system:

None.

B0502-15

System name:

Security Compromise Case Files (February 22, 1993, 58 FR 10189).

Changes:

* * * * *

Categories of records in the system:

Delete entry and replace with ‘Documents relating to investigations of alleged security violations/incidents such as missing documents, unauthorized disclosure of information, unattended open security containers, documents not properly safeguarded, and matters of a similar nature.”

Authority for maintenance of the system:

Delete entry and replace “5 U.S.C. 301, Departmental regulations; E.O. 12958, Classified National Security Information; NIMA Instruction 5205.1R1 Protection of Sensitive Compartmented Information; NIMA Instruction 5210.8 Physical Security, NIMA Instruction 5201.5R1 Serious Incident Reporting.”

* * * * *

Storage:

Delete entry and replace with “Paper records.”

* * * * *

B0502-15

System name:

Security Compromise Case Files.

System location:

National Imagery and Mapping Agency, ATTN: Chief, Security Branch, Mission Support, MSRS P-12, 12310 Sunrise Valley Drive, Reston, VA 20191-3449;

National Imagery and Mapping Agency, ATTN: Chief, Security Branch, Mission Support, ATTN: MSBS D-60, 4600 Sangamore Road, Bethesda, MD 20816-5003;

National Imagery and Mapping Agency, ATTN: Chief, Security Branch, Mission Support, ATTN: MSNS N-55, Building 213, 1200 First Street, SE, Washington, DC 20505-0001; and

National Imagery and Mapping Agency, ATTN: Chief, Security Branch, Mission Support, ATTN: MSWS L-59, 3200 S. Second Street, St. Louis, MO 63118-3399.

Categories of individuals covered by the system:

Individuals who may have violated NIMA security.

Categories of records in the system:

Documents relating to investigations of alleged security violations/incidents such as missing documents, unauthorized disclosure of information, unattended open security containers, documents not properly safeguarded, and matters of a similar nature.

Authority for maintenance of the system:

5 U.S.C. 301, Departmental regulations; E.O. 12958, Classified National Security Information; NIMA Instruction 5205.1R1 Protection of Sensitive Compartmented Information; NIMA Instruction 5210.8 Physical Security, NIMA Instruction 5201.5R1 Serious Incident Reporting.

Purpose(s):

To protect records relating to investigations conducted into alleged and/or actual security violations by Security Office personnel and appointed investigating officials.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' set forth at the beginning of NIMA's compilation of systems of records notices apply to this system.

Policies and practices for storing, retrieving, accessing, retaining, and disposing of records in the system:

Storage:

Paper records.

Retrievability:

Retrieved by last name of individual.

Safeguards:

Buildings or facilities employ security guards. Records are maintained in areas accessible only to authorized personnel that are properly screened, cleared, and trained.

Retention and disposal:

Files relating to alleged violations of a sufficiently serious nature that they are referred to the Departments of Justice or Defense for prosecutive determination, exclusive of files held by Department of Justice for Defense offices responsible for making such determinations are destroyed 5 years after close of case.

All other files, exclusive of papers placed in official personnel folders are destroyed 2 years after completion of final action or when no longer needed, whichever is sooner.

System manager(s) and address:

Chief, Security Branch, National Imagery and Mapping Agency, Mission Support, MSRS P-12, 12310 Sunrise Valley Drive, Reston, VA 20191-3449;

Chief, Security Branch, National Imagery and Mapping Agency, Mission Support, ATTN: MSBS D-60, 4600 Sangamore Road, Bethesda, MD 20816-5003;

Chief, Security Branch, National Imagery and Mapping Agency, Mission Support, ATTN: MSNS N-55, Building 213, 1200 First Street, SE., Washington, DC 20505-0001; and

Chief, Security Branch, National Imagery and Mapping Agency, Mission Support, ATTN: MSWS L-59, 3200 S. Second Street, St. Louis, MO 63118-3399.

Notification procedure:

Individuals seeking to determine whether information about themselves is contained in this system should address written inquiries to the National Imagery and Mapping Agency, Office of General Counsel, 4600 Sangamore Road, Mail stop D-10, Bethesda, MD 20816-5003.

Written requests for information should contain the full name of the individual, current address and telephone number.

Record access procedures:

Individuals seeking access to information about themselves contained in this system should address written inquiries to the Information National Imagery and Mapping Agency, Office of General Counsel, 4600 Sangamore Road, Mail stop D-10, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Reporting organization or official.

Exemptions claimed for the system:

None.

B0503-02

System name:

Security Identification Accountability Files (February 22, 1993, 58 FR 10189).

Changes:

* * * * *

Storage:

Delete entry and replace with ‘Paper records and on electronic storage media.’

* * * * *

Retention and disposal:

Delete entry and replace with ‘Transfer to Records Holding Area after last card or badge number entered has been accounted for. Hold for three years and destroy.’

* * * * *

B0503-02

System name:

Security Identification Accountability Files.

System location:

National Imagery and Mapping Agency, ATTN: Security Specialist, Mission Support, MSRS P-12, 12310 Sunrise Valley Drive, Reston, VA 20191-3449;

National Imagery and Mapping Agency, ATTN: Security Specialist, Mission Support, MSBS D-60, 4600 Sangamore Road, Bethesda, MD 20816-5003;

National Imagery and Mapping Agency, ATTN: Security Specialist Mission Support, MSNS N-55, Building 213, 1200 First Street, SE., Washington, DC 20505-0001; and

National Imagery and Mapping Agency, ATTN: Security Specialist, Mission Support, MSWS L-59, 3200 S. Second Street, St. Louis, MO 63118-3399.

Categories of individuals covered by the system:

Any civilian employee.

Categories of records in the system:

File contains the application, supporting materials and the number of the identification badges.

Authority for maintenance of the system:

5 U.S.C. 301, Departmental regulations and E.O. 12958, Classified National Security Information.

Purpose(s):

To maintain accountability for various identification cards/badges issues and identify to whom issued.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of NIMA's compilation of systems of records notices apply to this system.

Policies and practices for storing, retrieving, accessing, retaining, and disposing of records in the system:

Storage:

Paper records and on electronic storage media.

Retrievability:

Retrieved by individual's name.

Safeguards:

Access to database restricted to authorized user name and password to agency server. Paper records are stored in locked safes inside a limited access office.

Retention and disposal:

Transfer to Records Holding Area after last card or badge number entered has been accounted for. Hold for three years and destroy.

System manager(s) and address:

Security Specialist, National Imagery and Mapping Agency, Mission Support, MSRS P-12, 12310 Sunrise Valley Drive, Reston, VA 20191-3449;

Security Specialist, National Imagery and Mapping Agency, Mission Support, MSBS D-60, 4600 Sangamore Road, Bethesda, MD 20816-5003;

Security Specialist, National Imagery and Mapping Agency, Mission Support, MSNS N-55, Building 213, 1200 First Street, SE., Washington, DC 20505-0001; and

Security Specialist, National Imagery and Mapping Agency, Mission Support, MSWS L-59, 3200 S. Second Street, St. Louis, MO 63118-3399.

Notification procedure:

Individuals seeking to determine whether information about themselves is contained in this system should address written inquiries to the National Imagery and Mapping Agency, Office of General Counsel, 4600 Sangamore Road, Mail stop D-10, Bethesda, MD 20816-5003.

Written requests for information should contain the full name of the individual, current address and telephone number.

Record access procedures:

Individuals seeking access to information about themselves contained in this system should address written inquiries to the National Imagery and Mapping Agency, Office of General Counsel, 4600 Sangamore Road, Mail stop D-10, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Individual's badge request and personnel forms.

Exemptions claimed for the system:

None.

B0503-03

System name:

Firearms Authorization Files (February 22, 1993, 58 FR 10189).

Changes:

* * * * *

Authority for maintenance of the system:

Delete entry and replace with ‘5 U.S.C. 301, Departmental regulations; DoD Directive 5210.56, Use of deadly force and the carrying of firearms by DoD personnel engaged in law enforcement and security duties; NIMA Policy Directive 5200R2, Operational Security; NIMA Instruction 5210.2R2, Use of force.’

* * * * *

B0503-03

System name:

Firearms Authorization Files.

System location:

National Imagery and Mapping Agency, ATTN: Chief, Security Branch, Mission Support, ATTN: MSRS P-12, 12310 Sunrise Valley Drive, Reston, VA 20191-3449;

National Imagery and Mapping Agency, ATTN: Chief, Security Branch, Mission Support, ATTN: MSBS D-60, 4600 Sangamore Road, Bethesda, MD 20816-5003;

National Imagery and Mapping Agency, ATTN: Chief, Security Branch, Mission Support, ATTN: MSNS N-55, Building 213, 1200 First Street, SE., Washington, DC 20505-0001; and

National Imagery and Mapping Agency, ATTN: Chief, Security Branch, Mission Support, ATTN: MSWS L-59, 3200 S. Second Street, St. Louis, MO 63118-3399.

Categories of individuals covered by the system:

Security guards that have been issued firearms and ammunition.

Categories of records in the system:

Documents authorizing NIMA civilian guards to carry firearms. Included are firearms authorization cards and related papers.

Authority for maintenance of the system:

5 U.S.C. 301, Departmental regulations; DoD Directive 5210.56, Use of deadly force and the carrying of firearms by DoD personnel engaged in law enforcement and security duties; NIMA Policy Directive 5200R2, Operational Security; NIMA Instruction 5210.2R2, Use of force.

Purpose(s):

To maintain required firearms annual qualifications records, weapons serial numbers and firearms authorization cards issued to each assigned Security Police.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of NIMA's compilation of systems of records notices apply to this system.

Policies and practices for storing, retrieving, accessing, retaining, and disposing of records in the system:

Storage:

Paper records.

Retrievability:

Retrieved by last name of employee.

Safeguards:

Buildings or facilities employ security guards. Records are maintained in areas accessible only to authorized personnel that are properly screened, cleared, and trained.

Retention and disposal:

Destroy upon expiration of authorization.

System manager(s) and address:

Chief, Security Branch, National Imagery and Mapping Agency, Mission Support, ATTN: MSRS P-12, 12310 Sunrise Valley Drive, Reston, VA 20191-3449;

Chief, Security Branch, National Imagery and Mapping Agency, Mission Support, ATTN: MSBS D-60, 4600 Sangamore Road, Bethesda, MD 20816-5003;

Chief, Security Branch, National Imagery and Mapping Agency, Mission Support, ATTN: MSNS N-55, Building 213, 1200 First Street, SE., Washington, DC 20505-0001; and Chief, Security Branch, National Imagery and Mapping Agency, Mission Support, ATTN: MSWS L-59, 3200 S. Second Street, St. Louis, MO 63118-3399.

Notification procedure:

Individuals seeking to determine whether information about themselves is contained in this system should address written inquiries to the National Imagery and Mapping Agency, Office of General Counsel, 4600 Sangamore Road, Mail stop D-10, Bethesda, MD 20816-5003.

Written requests for information should contain the full name of the individual, current address and telephone number.

Record access procedures:

Individuals seeking access to information about themselves contained in this system should address written inquiries to the National Imagery and Mapping Agency, Office of General Counsel, 4600 Sangamore Road, Mail stop D-10, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Subject individual to whom the firearm is issued, home address and telephone number, weapon serial number, and authorization card issued.

Exemptions claimed for the system:

None.

B0503-05

System name:

Vehicle Registration and Driver Record File (February 22, 1993, 58 FR 10189).

Changes:

* * * * *

Categories of individuals covered by the system:

Delete entry and replace with “Any person privileged to operate a motor vehicle on a military installation or NIMA leased properties and who has been involved in a chargeable traffic accident or whose commission of a moving traffic violation has been verified.”

Authority for maintenance of the system:

Delete entry and replace with “50 U.S.C. 797, Security Regulations and Orders; Penalty for Violation; 5 U.S.C. 301, Departmental Regulations; and NIMA Instruction 4540.1R3, Parking and Vehicular Traffic.”

* * * * *

Safeguards:

Delete entry and replace with “Access to electronic file or locked filing cabinet is limited to authorized individuals or with valid user name and password.”

* * * * *

B0503-05

System name:

Vehicle Registration and Driver Record File.

System location:

National Imagery and Mapping Agency, ATTN: Security Specialist, Mission Support, MSRS P-12, 12310 Sunrise Valley Drive, Reston, VA 20191-3449;

National Imagery and Mapping Agency, ATTN: Security Specialist, Mission Support, MSBS D-60, 4600 Sangamore Road, Bethesda, MD 20816-5003;

National Imagery and Mapping Agency, ATTN: Security Specialist Mission Support, MSNS N-55, Building 213, 1200 First Street, SE, Washington, DC 20505-0001; and

National Imagery and Mapping Agency, ATTN: Security Specialist, Mission Support, MSWS L-59, 3200 S. Second Street, St. Louis, MO 63118-3399.

Categories of individuals covered by the system:

Any person privileged to operate a motor vehicle on a military installation or NIMA leased properties and who has been involved in a chargeable traffic accident or whose commission of a moving traffic violation has been verified.

Categories of records in the system:

File contains a record of issuance of decal and of all traffic offenses/incidents and actions.

Authority for maintenance of the system:

5 U.S.C. 301, Departmental Regulations; 50 U.S.C. 797, Security Regulations and Orders; Penalty for Violation; and NIMA Instruction 4540.1R3, Parking and Vehicular Traffic.

Purpose(s):

To record traffic offenses, incidents and actions taken, and to track parking permits issued to agency personnel and contractors.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of NIMA's compilation of systems of records notices apply to this system.

Policies and practices for storing, retrieving, accessing, retaining, and disposing of records in the system:

Storage:

Paper records and on electronic storage media.

Retrievability:

Retrieved by last name of individual.

Safeguards:

Access to electronic file or locked filing cabinet is limited to authorized individuals or with valid user name and password.

Retention and disposal:

Destroy one year after revocation or expiration.

System manager(s) and address:

Security Specialist, National Imagery and Mapping Agency, Mission Support, MSRS P-12, 12310 Sunrise Valley Drive, Reston, VA 20191-3449;

Security Specialist, National Imagery and Mapping Agency, Mission Support, MSBS D-60, 4600 Sangamore Road, Bethesda, MD 20816-5003;

Security Specialist, National Imagery and Mapping Agency, Mission Support, MSNS N-55, Building 213, 1200 First Street, SE., Washington, DC 20505-0001; and

Security Specialist, National Imagery and Mapping Agency, Mission Support, MSWS L-59, 3200 S. Second Street, St. Louis, MO 63118-3399.

Notification procedure:

Individuals seeking to determine whether information about themselves is contained in this system should address written inquiries to the National Imagery and Mapping Agency, Office of General Counsel, 4600 Sangamore Road, Mail stop D-10, Bethesda, MD 20816-5003.

Written requests for information should contain the full name of the individual, current address and telephone number.

Record access procedures:

Individuals seeking access to information about themselves contained in this system should address written inquiries to the National Imagery and Mapping Agency, Office of General Counsel, 4600 Sangamore Road, Mail stop D-10, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Report of traffic violation from Security police.

Exemptions claimed for the system:

None.

B0503-09

System name:

Key Accountability Files (February 22, 1993, 58 FR 10189).

Changes:

* * * * *

Record source categories:

Delete entry and replace with “Individual's key requests and personnel forms.”

* * * * *

B0503-09

System name:

Key Accountability Files.

System location:

National Imagery and Mapping Agency, ATTN: MSRS P-12, 12310 Sunrise Valley Drive, Reston, VA 20191-3449;

National Imagery and Mapping Agency, ATTN: MSBS D-60, 4600 Sangamore Road, Bethesda, MD 20816-5003;

National Imagery and Mapping Agency, ATTN: MSNS N-55, Building 213, 1200 First Street, SE., Washington, DC 20505-0001; and National Imagery and Mapping Agency, ATTN: MSWS L-59, 3200 S. Second Street, St. Louis, MO 63118-3399.

Categories of individuals covered by the system:

Individuals with keys to a secure area.

Categories of records in the system:

Documentation relating to the issue, return and accountability for keys to secure areas.

Authority for maintenance of the system:

5 U.S.C. 301, Departmental Regulations; NIMA Instruction 5210.8 Physical Security; and E.O. 12958, Classified National Security Information.

Purpose(s):

To maintain documentation on periodic inspections, key accountability, reference checks and daily use records and investigations into loss or destruction of secure areas.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of NIMA's compilation of systems of records notices apply to this system.

Policies and practices for storing, retrieving, accessing, retaining, and disposing of records in the system:

Storage:

Paper records.

Retrievability:

Retrieved by individual's last name.

Safeguards:

Buildings, facilities employ security guards. Records are maintained in areas accessible only to authorized personnel that are properly screened, cleared and trained.

Retention and disposal:

Files relating to keys to restricted security areas are destroyed 3 years after turn-in of key or on discontinuance, whichever is first.

Files relating to keys to other areas are destroyed 6 months after turn-in of key or on discontinuance, whichever is first.

System manager(s) and address:

National Imagery and Mapping Agency, ATTN: Locksmith, MSRS P-12, 12310 Sunrise Valley Drive, Reston, VA 20191-3449;

National Imagery and Mapping Agency, ATTN: Locksmith, MSBS D-60, 4600 Sangamore Road, Bethesda, MD 20816-5003;

National Imagery and Mapping Agency, ATTN: Locksmith, MSNS N-55, Building 213, 1200 First Street, SE., Washington, DC 20505-0001; and

National Imagery and Mapping Agency, ATTN: Locksmith; MSWS L-59, 3200 S. Second Street, St. Louis, MO 63118-3399.

Notification procedure:

Individuals seeking to determine whether information about themselves is contained in this system should address written inquiries to the National Imagery and Mapping Agency, Office of General Counsel, 4600 Sangamore Road, Mail stop D-10, Bethesda, MD 20816-5003.

Requests from individuals should contain the full name of the individual, current address and telephone number.

Record access procedures:

Individuals seeking access to information about themselves contained in this system should address written inquiries to the National Imagery and Mapping Agency, Office of General Counsel, 4600 Sangamore Road, Mail stop D-10, Bethesda, MD 20816-5003.

Requests from individuals should contain the full name of the individual, current address and telephone number.

Contesting record procedures:

NIMA's rules for accessing records, and for contesting contents and appealing initial agency determinations are published in NIMA Instruction 5500.7R1; 32 CFR part 320; or may be obtained from the system manager.

Record source categories:

Individual's key requests and personnel forms.

Exemptions claimed for the system:

None.

B0614-01

System name:

Military Personnel Information Files (July 13, 1995, 60 FR 36124).

Changes:

* * * * *

System location:

Delete entry and replace with “National Imagery Mapping Agency, Executive Directory Military Personnel (D-84), 4600 Sangamore Road, Bethesda, MD 20816-5003.”

* * * * *

Authority for maintenance of the system:

Delete entry and replace with ‘5 U.S.C. 301, Departmental regulations.’

* * * * *

System manager(s) and address:

Delete entry and replace with “Chief of Military Personnel Division, National Imagery Mapping Agency, Executive Directory Military Personnel (D-84) 4600 Sangamore Road, Bethesda, MD 20816-5003.”

* * * * *

B0614-01

System name:

Military Personnel Information Files.

System location:

National Imagery Mapping Agency, Executive Directory Military Personnel (D-84), 4600 Sangamore Road, Bethesda, MD 20816-5003.

Categories of individuals covered by the system:

Military personnel assigned to NIMA.

Categories of records in the system:

Copies of Army, Air Force, Navy, or Marine Corps qualification records and assignment orders. Copies of leave requests, biographies, evaluation/fitness reports, security information, completed decoration documents, and finance action forms. Routine correspondence regarding assignment actions, duty assignments, extension of NIMA tour, requests for training, etc.

Authority for maintenance of the system:

5 U.S.C. 301, Departmental regulations.

Purpose(s):

To determine the acceptability of an individual nominated by the parent service for a NIMA position: to be used in the preparation of efficiency/fitness/effectiveness reports, award recommendations, and other personnel actions. Documents used to assist HRM personnel in serving as liaison between the individual, NIMA, and the servicing Military Personnel offices.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of NIMA's compilation of systems of records notices apply to this system.

Policies and practices for storing, retrieving, accessing, retaining, and disposing of records in the system:

Storage:

Paper records in file folders.

Retrievability:

Alphabetically by name of individual.

Safeguards:

Records are maintained in a secured area/locked file cabinets with access limited to authorized personnel whose duties require access.

Retention and disposal:

Retain until departure of individual from NIMA. Hold one year and destroy.

System manager(s) and address:

Chief of Military Personnel Division, National Imagery Mapping Agency, Executive Directory Military Personnel (D-84) 4600 Sangamore Road, Bethesda, MD 20816-5003.

Notification procedure:

Individuals seeking to determine whether information about themselves is contained in this system should address written inquiries to the National Imagery and Mapping Agency, Office of General Counsel, 4600 Sangamore Road, Mail stop D-10, Bethesda, MD 20816-5003.

Record access procedures:

Individuals seeking access to information about themselves contained in this system should address written inquiries to the Office of National Imagery and Mapping Agency, Office of General Counsel, 4600 Sangamore Road, Mail stop D-10, Bethesda, MD 20816-5003.

Written requests for information should contain the full name of the individual, current address and telephone number, service number on all correspondence received from this office.

For personal visits, the individual should be able to provide some acceptable identification, such as, drivers license, employing office's identification cards, and give some verbal information that could be verified. Visits are limited to normal working hours.

Contesting record procedures:

NIMA's rules for accessing records, and for contesting contents and appealing initial agency determinations are published in NIMA Instruction 5500.7R1; 32 CFR part 320; or may be obtained from the system manager.

Record source categories:

Information is obtained from the individual's Service Military Personnel Center, the individual's rating official within the NIMA and the individual concerned.

Exemptions claimed for the system:

None.

B1202-17

System name:

Contracting Officer Designation Files (February 22, 1993, 58 FR 10189).

Changes:

* * * * *

Authority for maintenance of the system:

Delete entry and replace with ‘5 U.S.C. 301, Departmental Regulations.’

* * * * *

Storage:

Delete ‘and/or Kardex book’ from entry.

Retrievability:

Delete entry and replace with ‘Information is retrieved by name of contracting officer.’

Safeguards:

Delete entry and replace with ‘Records are maintained in a secured area with access limited to authorized personnel whose duties require access. The database can only be accessed via a correct user ID and password.’

* * * * *

Record source categories:

Delete entry and replace with “Certificate of Appointment and background information on education, training, experience, Standard Form 1402, and specific information on procurement authorities delegated.”

* * * * *

B1202-17

System name:

Contracting Officer Designation Files.

System location:

NIMA Contracting Officers are located at NIMA Headquarters in Bethesda, MD; Reston, VA; Washington Navy Yard, Washington, DC; and NIMA St. Louis, MO. Official mailing addresses are published as an appendix to NIMA’s compilation of systems of records notices.

Categories of individuals covered by the system:

Employee designated Contracting Officer and Contracting Officer Representative.

Categories of records in the system:

Documents reflecting the designation and rescission of Contracting Officers and Contracting Officers representative which includes the specific procurement authorities delegated.

Authority for maintenance of the system:

5 U.S.C. 301, Departmental Regulations.

Purpose(s):

To maintain documents showing individual designated as Contracting Officers; to include data reflecting limitations, restrictions on authority, and background information for use in other contracts.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD “Blanket Routine Uses” set forth at the beginning of NIMA's compilation of systems of records notices apply to this system.

Policies and practices for storing, retrieving, accessing, retaining, and disposing of records in the system:

Storage:

Paper records in file folders and on electronic medium.

Retrievability:

Information is retrieved by name of contracting officer.

Safeguards:

Records are maintained in a secured area with access limited to authorized personnel whose duties require access. The database can only be accessed via a correct user ID and password.

Retention and disposal:

Records are temporary. NIMA destroys these records upon the transfer, reassignment or termination of the contracting officer.

System manager(s) and address:

Procurement Technician, National Imagery Mapping Agency, PCP (D-15), 4600 Sangamore Road, Bethesda, MD 20816-5003.

Notification procedure:

Individuals seeking to determine whether information about themselves is contained in this system of records should address written inquiries to the National Imagery and Mapping Agency, Office of General Counsel, 4600 Sangamore Road, Mail stop D-10, Bethesda, MD 20816-5003.

Written requests for information should contain the full name of the individual, current address and telephone number.

Record access procedures:

Individuals seeking access to information about themselves contained in this system of records should address written inquiries to the National Imagery and Mapping Agency, Office of General Counsel, 4600 Sangamore Road, Mail stop D-10, Bethesda, MD 20816-5003.

Written requests for information should contain the full name of the individual, current address and telephone number.

Contesting record procedures:

NIMA's rules for accessing records, and for contesting contents and appealing initial agency determinations are published in NIMA Instruction 5500.7R1; 32 CFR part 320; or may be obtained from the system manager.

Record source categories:

Certificate of Appointment and background information on education, training, experience, Standard Form 1402, and specific information on procurement authorities delegated.

Exemptions claimed for the system:

None.

[FR Doc. 02-6546 Filed 3-18-02; 8:45 am]

BILLING CODE 5001-08-P